DEPARTMENT OF INTERIOR

Fish and Wildlife Service

Notice of Intent To Prepare an Environmental Impact Statement for Proposed Designation of Critical Habitat for the Rio Grande Silvery Minnow and Notice of Public Scoping Meetings

AGENCY: Fish and Wildlife Service, Interior.

ACTION: Notice of Intent.

SUMMARY: We, the Fish and Wildlife Service (Service), are providing this notice to advise the public that an Environmental Impact Statement (EIS) will be prepared in conjunction with a new proposed rule, designating critical habitat for the endangered Rio Grande silvery minnow (Hybognathus amarus). On November 21, 2000, the United States District Court for the District of New Mexico, in Middle Rio Grande Conservancy District v. Bruce Babbitt et al., State of New Mexico Engineer ex rel the State Engineer, New Mexico Interstate Stream Commission, and the New Mexico Attorney General v. Bruce Babbitt et al., and Forest Guardians et al. v. Bruce Babbitt et al., CIV 99-870, 99-872 and 99-1445M/RLP (Consolidated) ordered us to issue within 120 days both an EIS and a new proposed rule designating critical habitat for the Rio Grande silvery minnow. Public scoping meetings will be held on April 17, 2001, at the Indian Pueblo Cultural Center, Albuquerque, New Mexico, on April 23, 2001, at the New Mexico State University Instructional Building, Carlsbad, New Mexico and on April 24, 2001, at the Pecos County Commission, Fort Stockton, Texas.

We anticipate that public interest in the proposal to designate critical habitat will be high. Thus, we have scheduled three public scoping meetings to be held in Albuquerque and Carlsbad, New Mexico, and Fort Stockton, Texas (see DATES and ADDRESSES section). This notice and public scoping meetings will allow all interested parties to submit comments and/or relevant information to be considered in the preparation of a draft EIS for the new proposed designation. We are seeking comments or suggestions from the public, other concerned governmental agencies, tribes, the scientific community, industry, or any other interested parties concerning the scope of the analysis and preparation of an EIS. We also identify the Service Official to whom questions and comments should be directed concerning the development of a new proposed rule and the EIS.

DATES: We will hold public scoping meetings to solicit comments and suggestions on the scope of the EIS analysis and proposed alternatives. We will hold scoping meetings from 6 to 9 p.m. on April 17, 2001, at the Indian Pueblo Cultural Center, Albuquerque, New Mexico; on April 23, 2001, at the New Mexico State University Instructional Building, Carlsbad, New Mexico; and on April 24, 2001, at the Pecos County Commission, Fort Stockton, Texas. We encourage your written comments which we must receive for consideration on or before June 4, 2001.

We will give notice for the draft EIS (DEIS) once it's prepared. We will solicit comments on the DEIS for a minimum 45-day public comment period so that interested and affected people may participate and contribute to the preparation of a final EIS. In addition, we intend to develop a new proposed rule designating critical habitat for the Rio Grande silvery minnow and solicit comments or suggestions on reasons why any particular area should or should not be designated as critical habitat, information on the distribution and quality of habitat for the silvery minnow, land or water use practices and current or planned activities in areas that may be affected by a redesignation of critical habitat, and any other pertinent issues of concern.

ADDRESSES: Information, comments, or questions related to preparation of the EIS and the National Environmental Policy Act process should be submitted to Joy Nicholopoulos, Field Supervisor, U.S. Fish and Wildlife Service, New Mexico Ecological Services Field Office, 2105 Osuna NE, Albuquerque, New Mexico, 87113. Written comments may also be sent by facsimile to (505) 346-2542 or by email to FW2 ES NewMexico@fws.gov. All comments, including names and addresses, will become part of the administrative record and may be released.

FOR FURTHER INFORMATION CONTACT: Questions regarding the scoping process, preparation of the EIS, or development of a new proposed rule designating critical habitat may be directed to Joy Nicholpoulos (see ADDRESSES section).

SUPPLEMENTARY INFORMATION:

Background

The Fish and Wildlife Service proposed to list the Rio Grande silvery minnow as an endangered species with critical habitat on March 1, 1993 (58 FR 11821). The public comment period, originally scheduled to close on April 30, 1993, was extended until August 25, 1993 (58 FR 19220), to conduct public hearings and allow submission of additional comments. We held public hearings in Albuquerque and Socorro, New Mexico, on the evenings of April 27 and 28, 1993, respectively.

We published the final rule to list the Rio Grande silvery minnow on July 20, 1994 (59 FR 36988). At that time, we found that critical habitat was not determinable because there was insufficient information to perform required analyses of the potential impacts of the designation. An economic analysis was conducted by a contractor to determine the economic effects of the designation in September 1994; the draft analysis was provided to us in February 1996 and transmitted to all interested individuals on April 26, 1996. We notified the public that, because of the moratorium on final listing actions and determinations of critical habitat imposed by Public Law 104-6, no work would be conducted on the analysis or on the final decision concerning critical habitat. However, we solicited comments from the public and agencies for use when such work resumed. On February 22, 1999, the United States District Court for the District of New Mexico, in Forest Guardians and Defenders of Wildlife v. Bruce Babbitt, CIV 97-0453 JC/DIS, ordered us to publish a final determination with regard to critical habitat for the Rio Grande silvery minnow within 30 days of that order. Subsequently, on March 22, 1999, the Court ordered that we would be allowed an additional 90 days for the final designation. We published a final determination of critical habitat for the Rio Grande silvery minnow on July 6, 1999 (64 FR 36274). On July 8, 1999, we finalized the Rio Grande silvery minnow recovery plan (USFWS 1999). On November 21, 2000, the United States District Court for the District of New Mexico ordered the Service to issue a new proposed rule designating critical habitat for the Rio Grande silvery minnow within 120 days, and to simultaneously issue an EIS.

A new proposal to designate critical habitat for the Rio Grande Silvery minnow may be substantially different from the previously designated critical habitat. The process to propose critical habitat will include at least the following elements: (1) Compile and analyze all new biological information on the species; (2) review and update the administrative record; (3) review the overall approach to the conservation of the Rio Grande silvery minnow undertaken by the local, State, Tribal, and Federal agencies operating within the Middle Rio Grande Valley and other areas where the species historically occurred; (4) review available information that pertains to the habitat requirements of this species, including material received during the public comment period from this notice and comments on the listing and previous designation; (5) review actions identified in the Rio Grande silvery minnow recovery plan (USFWS 1999); (6) determine what areas might require “special management considerations or protections” pursuant to the definition of critical habitat in section 3 of the Act; (7) develop a precise definition of the primary constituent elements, including a discussion of the specific biological and physical features essential to the survival of the silvery minnow; (8) precisely map critical habitat within river reaches; (9) analyze the potential economic consequences of designating critical habitat; and (10) analyze the potential consequences through NEPA.

Several considerations may influence the alternatives we are considering. For example, we will be evaluating reintroduction sites within the historic range of the Rio Grande silvery minnow to determine whether these areas require “special management considerations or protections.” Similarly, we know that we must give careful consideration to the compatibility of Rio Grande silvery minnow management with the existing purposes and uses of such lands and waters. This issue, in particular, is one for which we are seeking public input. We welcome information on historically or currently occupied areas that may contain the physical and biological features essential to the conservation of the Rio Grande silvery minnow and that may warrant “special management considerations or protections” and should be designated critical habitat (i.e., stream reaches).

The DEIS will consider all reasonable alternatives for the designation of critical habitat for the Rio Grande silvery minnow. Potential alternatives to designate critical habitat for the Rio Grande silvery minnow may include one or more of the following: (1) No action; (2) examining the entire Middle Rio Grande reach by reach; (3) designating the Pecos River in New Mexico; (4) designating the Pecos River in Texas; (5) designating the entire Rio Grande in New Mexico and Texas; and (6) designating the entire historic range in the Pecos River in New Mexico and Texas, and the Rio Grande in New Mexico and Texas. Because we have not completed the elements in the critical habitat process identified above (e.g., compiled and analyzed all new biological information on the species; determined what areas might require “special management considerations or protections”; etc.) we do not know what the preferred alternative (the proposed action) or other alternatives might entail. Once identified, the alternatives will be carried forward into detailed analyses pursuant to the National Environmental Policy Act (NEPA) of 1969, as amended (42 U.S.C. 432 et seq.).

The Service is the lead Federal agency for compliance with NEPA for this action. The DEIS will incorporate public concerns in the analysis of impacts associated with the proposed action and associated project alternatives. The DEIS will be sent out for a minimum 45-day public review period, during which time comments will be solicited on the adequacy of the document. The Final EIS will address the comments received on the DEIS during public review, and will be furnished to all who commented on the DEIS, and made available to anyone who requests a copy.

This notice is provided pursuant to regulations for implementing the National Environmental Policy Act of 1969 (40 CFR 1506.6).

Dated: March 26, 2001.
Frank S. Shoemaker, Jr.,
Acting Regional Director, Region 2.

[FR Doc. 01-8465 Filed 4-4-01; 8:45 am]

BILLING CODE 4310-55-P